CORPORATION FOR NATIONAL AND COMMUNITY SERVICE

Notice of Technical Assistance Teleconferences for Organizations Interested in Applying for a 2004 Learn and Serve America Program Grant

AGENCY: Corporation for National and Community Service.

ACTION: Notice of technical assistance conference calls.

SUMMARY: The Corporation for National and Community Service (hereinafter the ‘Corporation’) will be providing six teleconferences for potential applicants for a Learn and Serve America School-based grant competition (The official Notice of Funds Availability will be published on or about November 14, 2003). Approximately $3.5 million will be available for grants to be awarded to state education agencies; or nonprofit organizations with programs in two or more states. Funds for this grant competition are FY 2003 funds available under authority provided by Pub. L. 108-7. Participation in these calls is optional.

The technical assistance teleconferences are designed to support potential applicants in preparing high quality proposals. Teleconferences scheduled in October 2003 will focus on:

(1) Developing innovative collaborations between schools and other community organizations;

(2) Designing impact evaluation strategies as an integral part of application development; and,

(3) Creating programs that are designed to be replicated and/or increased in scale. Teleconferences scheduled in February 2004 will focus on clarification of the grant application guidelines and an introduction to eGrants, the Corporation's Web-based grant management system.

The Corporation expects to make awards to applicants proposing innovative service-learning initiatives in two program areas of high importance to the Corporation: (1) Homeland Security through creation of programs that engage schools, students, their families, with community-based organizations in activities to minimize the damage or speed the recovery from disasters and emergencies (Schools often serve as the locus of a community's response to disasters by storing supplies and providing shelter and housing for victims and responders to any local emergency); (2) Bridging the Digital Divide through programs that reduce inequality in technological literacy, access to technology, or address underutilization of available technology and its applications. In both program areas the Corporation strongly encourages incorporation of adult, especially senior, volunteers. Applicants may also address both issues areas within a single program design.

DATES: Teleconference Dates: The first three calls, focused on developing high-quality programs, will take place on Wednesday, October 29, 2003, from 2-3:30 p.m. e.s.t., on Thursday, October 30, 2003, from 4-5:30 p.m. e.s.t., and on Tuesday, November 4, 2003, from 1-2:30 p.m. e.s.t. The second round of calls, to clarify program guidance, will take place on Friday, February 6, 2004, from 1-2:30 p.m. e.s.t., on Thursday, February 12 from 3-4:30 p.m. e.s.t., and on Tuesday, February 17, 2004, from 4-5:30 p.m. e.s.t. Please register for these calls by telephoning Juanita Peoples at (202) 606-5000 x117. The Corporation strongly encourages potential applicants to participate in both calls. Availability is limited to the first 30 registrants per call.

ADDRESSES: Corporation for National and Community Service, Learn and Serve America, 1201 New York Avenue, NW., Washington, DC 20525.

FOR FURTHER INFORMATION CONTACT: Mark Abbott, Learn and Serve America, mabbott@cns.gov, 202-606-5000 x120.

Dated: September 24, 2003.
Amy B. Cohen,
Director, Learn and Serve America.

[FR Doc. 03-24729 Filed 9-29-03; 8:45 am]

BILLING CODE 6050-$$-P